NATIONAL SCIENCE FOUNDATION

Advisory Committee for Engineering; Notice of Meeting

In accordance with the Federal Advisory Committee Act (Pub L. 92-463, as amended), the National Science Foundation announces the following meeting:

Name: Advisory Committee for Engineering (1170).

Date/Time: April 19-20, 2007, 8:30 a.m.-5 p.m.

Place: National Science Foundation, Room 375.

Type of Meeting: Open.

Contact Person: Deborah Young, Program and Management Analyst, Office of the Assistant Director for Engineering, 703-292-8301.

Purpose of Meeting: To provide advice, recommendations and counsel on major goals and policies pertaining to engineering programs and activities.

Agenda: The principal focus of the meeting will be a discussion of emerging issues and opportunities for the Directorate for Engineering and its divisions.

Dated: March 27, 2007.
Susanne Bolton,
Committee Management Officer.

[FR Doc. E7-5887 Filed 3-29-07; 8:45 am]

BILLING CODE 7555-01-P